DEPARTMENT OF HOUSING AND URBAN DEVELOPMENT

[Docket No. FR-5200-FA-05]

Announcement of Funding Awards for Fiscal Year 2008; Hispanic-Serving Institutions Assisting Communities Program

AGENCY: Office of the Assistant Secretary for Policy Development and Research, HUD.

ACTION: Announcement of funding awards.

SUMMARY: In accordance with Section 102 (a)(4)(C) of the Department of Housing and Urban Development Reform Act of 1989, this document notifies the public of funding awards for Fiscal Year 2008 Hispanic-Serving Institutions Assisting Communities Program (HSIAC). The purpose of this document is to announce the names, addresses and the amount awarded to the winners to be used to help Hispanic-Serving Institutions of Higher Education to expand their role and effectiveness in addressing community development needs in their localities, including neighborhood revitalization, housing and economic development, principally for persons of low- and moderate-income consistent with the purposes of Title I of the Housing and Community Development Act of 1974 as amended.

FOR FURTHER INFORMATION CONTACT: Susan Brunson, Office of University Partnerships, U.S. Department of Housing and Urban Development, Room 8106, 451 Seventh Street, SW., Washington, DC 20410, Telephone (202) 402-3852. To provide service for persons who are hearing- or speech-impaired, this number may be reached via TTY by Dialing the Federal Information Relay Service on (800) 877-8339 or (202) 708-1455. (Telephone numbers, other than “800” TTY numbers, are not toll free).

SUPPLEMENTARY INFORMATION: The Hispanic-Serving Institutions Assisting Communities Program was approved by Congress under the Consolidated Appropriations Act, 2008 (Pub. L. 110-161) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On May 12, 2008 (FR Vol. 73, No. 92), HUD published a Notice of Funding Availability approximately $6 million in Fiscal Year 2008 for the HSIAC Program.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org, the Department is publishing the names, addresses, and amounts of those awards as shown in Appendix A.

Dated: October 14, 2008
Darlene F. Williams,
Assistant Secretary for Policy Development and Research.

Appendix A—Fiscal Year 2008 Funding Awards for Hispanic-Serving Institutions Assisting Communities Grant Program
Recipient | City/State/Zip Code | Award
Imperial Valley College, Ms. Efrain Silva, 380 E Aten Road | Imperial, CA 92251 | $600,000
Southwestern College, Ms. Cynthia Nagura, 900 Otay Lakes Road | Chula Vista, CA 91910 | 600,000
The Regents of the University of New Mexico, Ms. Patricia Gonzales, 115 Civic Plaza Drive | Taos, NM 87571 | 600,000
Research Foundation of CUNY on behalf of Lehman College, Mr. Keville Frederickson, 250 Bedford Park Blvd. West, Shuster Hall 303 | Bronx, NY 10468 | 600,000
University of Puerto Rico at Carolina, Dr. Carlos Sariol, PO Box 4800 | Carolina, PR 00984-4800 | 559,895
Texas A&M University—Kingsville, Dr. Tadeo Reyna, 700 University Boulevard, MSC 201 | Kingsville, TX 78363 | 600,000
The University of Texas—Pan American, Mr. Michael Uhrbrock, 1201 W. University Drive | Edinburg, TX 78539-2999 | 599,990
The University of Texas at Brownsville and TSC, Mr. John Sossi, Office of Sponsored Programs, 80 Fort Brown | Brownsville, TX 78520 | 598,401
St. Mary's University, Mr. Steve Nivin, 1 Camino Santa Maria | San Antonio, TX 78228 | 596,794
Yakima Valley Community College, Mr. Bryce Humpherys, PO Box 22520 | Yakima, WA 98907 | 600,000

[FR Doc. E8-25067 Filed 10-21-08; 8:45 am]

BILLING CODE 4210-67-P